DEPARTMENT OF THE INTERIOR

Bureau of Land Management

[CA-690-00-5101-01-B109; CACA-CACA-40467]

Proposed Cadiz Groundwater Storage Dry-Year Supply Program, Pipeline Right of Way and Plan Amendment

AGENCY: Bureau of Land Management, Department of the Interior, Needles Field Office, Desert District, California.

ACTION: Notice of Public Meeting on the Supplemental Draft Environmental Impact Statement.

SUMMARY: A public meeting on the Supplement to the Draft Environmental Impact Report/Environmental Impact Statement (EIR/EIS) for the Cadiz Groundwater Storage Dry-Year Supply Program is scheduled for November 29, 2000 at 7:00 p.m. in the Twentynine Palms City Hall, 6132 Adobe Road, Twentynine Palms, CA. The Supplement was prepared in response to comments about groundwater resources and related air quality issues. It provides more information and presents a Groundwater Monitoring and Management Plan (Plan) that is part of the proposed project. The Plan would govern water storage and extraction operations, including the amount of indigenous groundwater that may be extracted over the project's 50-year life. Metropolitan Water District (MWD) and the Bureau of Land Management jointly prepared the Supplement, with the National Park Service and the U.S. Geological Survey as cooperating agencies.

The 45-day public review period for the Supplement ends December 4, 2000. Copies may be reviewed at Metropolitan's headquarters in Los Angeles, BLM offices in Riverside and Needles, the Norman Feldhyme Library in San Bernardino, and the Needles, Twentynine Palms and Barstow Branch Libraries. Written comments may be submitted to Mr. Jack Safely, MWD, PO Box 54153, Los Angeles, CA 90054-0153 or Mr. James Williams, Bureau of Land Management, 6221 Box Springs Blvd., Riverside, CA 92507-0714.

DATES: Public Meeting November 29, 2000.

ADDRESSES: Twentynine Palms City Hall, 6132 Adobe Road, Twentynine Palm, CA.

TIME: 7:00 p.m.

FOR ADDITIONAL INFORMATION CONTACT: Further information regarding the project may be obtained from Mr. Jack Safely of MWD at (213) 217-6981 or James Williams of BLM at (909) 697-5390.

Dated: November 13, 2000.
Alan Stein,
Acting District Manager.

[FR Doc. 00-29456 Filed 11-16-00; 8:45 am]

BILLING CODE 4310-40-P